NATIONAL ARCHIVES AND RECORDS ADMINISTRATION

Nixon Presidential Historical Materials: Opening of Materials

AGENCY: National Archives and Records Administration.

ACTION: Notice of Opening of Additional Materials.

SUMMARY: This notice announces the opening of additional Nixon Presidential Historical Materials by the Richard Nixon Presidential Library and Museum, a division of the National Archives and Records Administration. Notice is hereby given that, in accordance with section 104 of Title I of the Presidential Recordings and Materials Preservation Act (PRMPA, 44 U.S.C. 2111 note) and 1275.42(b) of the PRMPA Regulations implementing the Act (36 CFR Part 1275), the Agency has identified, inventoried, and prepared for public access additional textual materials and sound recordings from among the Nixon Presidential Historical Materials.

DATES: The Richard Nixon Presidential Library and Museum intends to make the materials described in this notice available to the public on Monday, January 11, 2010 at the National Archives building in College Park, MD (Archives 11) beginning at 11 a.m. (EDT), with the exception of the White House Central Files of Alexander Haig and Frederic V. Malek which will be made available at the Richard Nixon Library and Museum's primary location in Yorba Linda, CA beginning at 9 a.m. (PDT). In accordance with 36 CFR 1275.44, any person who believes it necessary to file a claim of legal right or privilege concerning access to these materials must notify the Archivist of the United States in writing of the claimed right, privilege, or defense before January 8, 2010.

ADDRESSES: Besides its primary location at 18001 Yorba Linda Blvd., Yorba Linda, California, the Richard Nixon Presidential Library and Museum, a division of the National Archives, has facilities in the Archives II Building at 8601 Adelphi Road, College Park, Maryland. Researchers at either facility must have a NARA researcher card, which they may obtain when they arrive at the facility. Petitions asserting a legal or constitutional right or privilege that would prevent or limit public access to the materials must be sent to the Archivist of the United States, National Archives at College Park, 8601 Adelphi Road, College Park, Maryland 20740-6001.

FOR FURTHER INFORMATION CONTACT: Timothy Naftali, Director, Richard Nixon Presidential Library and Museum, 714-983-9121 or 301-837-3117.

SUPPLEMENTARY INFORMATION: The following materials will be made available in accordance with this notice:

1. Previously restricted textual materials. Volume: 3.25 cubic feet. A number of textual materials which were previously withheld from public access have been reviewed for release and/or declassified under the mandatory review provisions of Executive Order 12958, as amended, or in accordance with 36 CFR 1275.56 (Public Access regulations). The materials are from integral file segments for the White House Special Files, Staff Member and Office Files; White House Central Files, Subject Files; the National Security Council (NSC Files and NSC Institutional Files); Nixon White House tape recordings; and the Henry A. Kissinger (HAK) Office Files, including HAK telephone conversation transcripts.

2. White House Central Files, Staff Member and Office Files. Volume: 56 cubic feet. The White House Central Files Unit was a permanent organization within the White House complex that maintained a central filing and retrieval system for the records of the President and his staff. The Staff Member and Office Files consist of materials that were transferred to the Central Files but were not incorporated into the Subject Files. The following file groups will be made available: Frank Gannon; Alexander Haig; Allen C. Hall; Frederic V. Malek; White House Conference on Food, Nutrition and Health.

3. White House Central Files, Name Files: Volume: 0.75 cubic feet. The Name Files were used for routine materials filed alphabetically by the name of the correspondent; copies of documents in the Name Files were usually filed by subject in the Subject Files. The following Name Files will be made available: Brewster, D.; Disney; Thomas J. Dodd (Sen.); Hoos; Saro; and Sero.

4. White House Central Files, Subject Files. Volume: 4.5 cubic feet. The White House Central Files Unit was a permanent organization within the White House complex that maintained a central filing and retrieval system for the records of the President and his staff. The Subject Files were arranged according to subject matter and were based on an alphanumerical file scheme of 61 primary categories. Listed below are the integral files segments from the White House Central Files, Subject Files in this opening:

GI Gifts [partial]

ME Messages [partial]

FG 166 National Capital Housing Authority

FG 167 National Capital Planning Commission

FG 168 National Commission on the Cause & Prevention of Violence

FG 169 National Commission on Consumer Finance

FG 233 Veterans Administration

PR Public Relations [partial]

5. White House Central Files, Oversize Attachment Files. Volume: 8.5 cubic feet. The White House Central Files Unit was a permanent organization within the White House complex that maintained a central filing and retrieval system for the records of the President and his staff. The Oversize Attachment Files were a means of filing and organizing materials that were too bulky or odd-sized to be placed in a file folder. Listed below are the oversize attachments from the White House Central Files, Oversize Attachment Files in this opening:

OAs (920, 2776, 2935, 3469, 3852, 3990, 4133, 4192, 4249, 4488, 4903, 5975, 7519, 7841, 8153, 8960, 9264, 9586, 10112, 10741, 11372, 11716, 11720, 12447, 12484, 12642, 12660, 13656, 14332, and 14398)

6. White House Central Files, On-the-Shelf Oversize Attachment Files. Volume: 11.8 cubic feet. The White House Central Files Unit was a permanent organization within the White House complex that maintained a central filing and retrieval system for the records of the President and his staff. The On-the-Shelf Oversize Attachment Files were a means of filing and organizing materials that were too bulky or odd-sized to be placed in a regular box. Listed below are the oversize attachments from the White House Central Files, On-the-Shelf Oversize Attachment Files in this opening:

On-the-Shelf OAs (5, 6, 9, 10, 13, 18, 25, 26, 29, 34, 35, 38, 46, 51, 52, 57, 61, 62, 64, 70, 71, 72, 74, 75, 76, 80, 85, 87, 88, 89, 92, 93, 94, 98, 103, 104, 106, 107, 108, 109, 114, 116, 117, 119, 121, 127, 128, 134, 153, 156, 164, 166, 171, 175, 184, 186, 187, 188, 191, 194, 202, 205, 207, 215, 219, 223, 226, 230, 244, 248, 249, 250, 251, 256, 257, 258, 259, 260, 261, 262, 263, 265, 266, 267, 268, 269, 270, 271, 272, 273, 274, 275, 276, 278, 279, 280, 281, 282, 283, 284, 285, 286, 287, 288, 289, 291, 292, 293, 294, 295, 297, 298, 299, 1883)

7. Exit Interviews. Volume: 0.10 cubic feet. The Office of Presidential Papers and Archives, a unit of the National Archives and Records Service functioning within the White House complex, conducted exit interviews with many departing staff members. These interviews document the staff member's functions and the ways these functions are documented in their records. The following Exit Interviews will be made available: Neal Ball; Frank Gannon; and Ronald H. Walker.

8. White House Communications Agency Sound Recordings. Volume: 12 hours. The White House Communications Agency (WHCA) was a permanent organization within the White House Military Office responsible for preparing audio, motion picture, film and photographic records of White House events. The WHCA Sound Recordings record the public utterances of President Nixon as well as selected speeches and remarks by other members of the Nixon Administration. A number of WHCA Sound Recordings which were previously withheld from public access have been reviewed for release in accordance with 36 CFR 1275.56 (Public Access regulations) and include the following:

P-700103 (Greetings/Hassan)

P-690808 (Toasts/Ceausescu)

P-700912 (Business briefing, 9/24/70)

P-710622 (Remarks/Black tie dinner, 06/22/1971)

P-711020 (Toasts/Tito)

P-711206 (Toasts/Trudeau)

P-720405 (Toasts/Michener)

P-701111 (Remarks/Ash Council)

B-049 (Greetings/Agnew/Singapore/70)

B-050 (Greetings/Agnew/Indonesia/70)

B-053 (Greetings/Agnew/Australia/70)

P-720221 (Remarks/GOP Governors/Reagan/Holton/Milliken)

P-710406 (Remarks/Illinois GOP/Percy, 4/8/71)

P-710631 (Remarks/Chowder and Marching/Kemp)

P-710701 (Toasts/Velasco)

H-189 (Briefing/Ehrlichman/Portland and Seattle Students)

P-690716 (Bi-partisan Leadership Breakfast/Boggs/Mansfield, 7/22/69)

P-701222 (Remarks/Moynihan, 12/21/1970)

Dated: December 4, 2009.
David Ferriero,
Archivist of the United States.

[FR Doc. E9-29453 Filed 12-8-09; 8:45 am]

BILLING CODE 7515-01-P